SMALL BUSINESS ADMINISTRATION

[Disaster Declaration #16485 and #16486; CALIFORNIA Disaster Number CA-00319]

Administrative Declaration Amendment of a Disaster for the State of California

AGENCY: U.S. Small Business Administration.

ACTION: Amendment 2.

SUMMARY: This is an amendment of the Administrative declaration of a disaster for the State of California dated 06/17/2020.

Incident: Civil Unrest.

Incident Period: 05/26/2020 to 12/28/2020.

DATES: Issued on 12/30/2020.

Physical Loan Application Deadline Date: 09/16/2020.

Economic Injury (EIDL) Loan Application Deadline Date: 03/17/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of an Administrative declaration for the State of California, dated 06/17/2020, is hereby amended to establish the incident period for this disaster as beginning 05/26/2020 and continuing through 12/28/2020.

All other information in the original declaration remains unchanged.

(Catalog of Federal Domestic Assistance Number 59008)

Jovita Carranza,
Administrator.

[FR Doc. 2021-00169 Filed 1-7-21; 8:45 am]

BILLING CODE 8026-03-P